DEPARTMENT OF JUSTICE

Antitrust Division

Notice Pursuant to the National Cooperative Research and Production Act of 1993—High Definition Metrology and Process-2 Micron Manufacturing Under ATP Award No. 70NANB77041

Notice is hereby given that, on March 10, 2010, pursuant to Section 6(a) of the National Cooperative Research and Production Act of 1993, 15 U.S.C. 4301 et seq. (“the Act”), High Definition Metrology and Process-2 Micron Manufacturing under ATP Award No. 70NANB7H7041 has filed written notifications simultaneously with the Attorney General and the Federal Trade Commission disclosing changes in its membership. The notifications were filed for the purpose of extending the Act's provisions limiting the recovery of antitrust plaintiffs to actual damages under specified circumstances. Specifically, MAG, Port Huron, MI, has been added as a party to this venture. Also, Superior Controls, Plymouth, MI, has withdrawn as a party to this venture.

No other changes have been made in either the membership or planned activity of the group research project. Membership in this research project remains open, and High Definition Metrology intends to file additional written notifications disclosing all changes in membership.

On December 13, 2007, High Definition Metrology filed its original notification pursuant to Section 6(a) of the Act. The Department of Justice published a notice in the Federal Register pursuant to Section 6(b) of the Act on March 10, 2008 (73 FR 12762).

The last notification was filed with the Department on September 17, 2008. A notice was published in the Federal Register pursuant to Section 6(b) of the Act on October 21, 2008 (73 FR 62542).

Patricia A. Brink,
Deputy Director of Operations, Antitrust Division.

[FR Doc. 2010-10466 Filed 5-6-10; 8:45 am]

BILLING CODE 4410-11-M